DEPARTMENT OF THE TREASURY

Submission for OMB Review; Comment Request

May 27, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 6, 2009 to be assured of consideration.

Financial Management Service (FMS)

OMB Number: 1510-0037.

Type of Review: Extension.

Form: TFS 5135.

Title: Voucher for Payment of Awards.

Description: Awards certified to Treasury are paid annually as funds are received from foreign governments. Vouchers are mailed to award holders showing payments due. Award holders sign vouchers certifying that he/she is entitled to payment.

Respondents: Individuals or households.

Estimated Total Burden Hours: 700 hours.

OMB Number: 1510-0043.

Type of Review: Extension.

Form: FMS-133, FMS-135.

Title: Notice of Reclamation and Debit Request for Recurring Benefit Payments.

Description: A program agency authorizes Treasury to recover payments that have been issued after the death of the beneficiary. FMS Form 133 is used to notify the FI. If the FI does not respond to the 133, a debit request (Form 135) is sent to the FRB.

Respondents: Businesses or other for-profit institutions.

Estimated Total Burden Hours: 79,335 hours.

OMB Number: 1510-0045.

Type of Review: Extension.

Form: FMS-150-1, FMS-150-2.

Title: Trace Request for EFT Payments.

Description: Used to notify the FI that a beneficiary has claimed non-receipt of credit for a payment. The form is designed to help the FI locate any problem and to keep the beneficiary informed of any action taken.

Respondents: Businesses or other for-profit institutions.

Estimated Total Burden Hours: 17,971 hours.

Clearance Officer: Wesley Powe, (202) 874-7662, Financial Management Service, Room 135, 3700 East West Highway, Hyattsville, MD 20782.

OMB Reviewer: Shagufta Ahmed, (202) 395-7873, Office of Management and Budget, Room 10235, New Executive Office Building, Washington, DC 20503.

Celina Elphage,
Treasury PRA Clearance Officer.

[FR Doc. E9-12957 Filed 6-2-09; 8:45 am]

BILLING CODE 4810-35-P